DEPARTMENT OF THE INTERIOR

Fish and Wildlife Service

[FWS-R1-ES-2008-N0076; 10120-1113-0000-F5]

Endangered Wildlife and Plants; Permits

AGENCY: Fish and Wildlife Service, Interior.

ACTION: Notice of availability of application to amend permit; request for comments.

SUMMARY: We, the U.S. Fish and Wildlife Service (Service), invite the public to comment on the following application to amend an existing permit to conduct certain activities with endangered species.

DATES: We must receive your written data or comments by June 9, 2008.

ADDRESSES: Program Manager, Endangered Species, Ecological Services, U.S. Fish and Wildlife Service, 911 NE. 11th Avenue, Portland, OR 97232-4181.

FOR FURTHER INFORMATION CONTACT: Grant Canterbury, Fish and Wildlife Biologist, at the above address or by telephone (503-231-2063) or fax (503-231-6243).

SUPPLEMENTARY INFORMATION: The following applicant has applied to amend an existing scientific research permit to conduct certain activities with endangered species under section 10(a)(1)(A) of the Endangered Species Act (16 U.S.C. 1531 et seq.). We solicit review and comment from local, State, and Federal agencies and the public.

Permit No. TE-146777

Applicant: Arleone Dibben-Young, Kaunakakai, Molokai, Hawaii

The applicant requests an amendment to an existing permit to take (capture, measure, band, mark, release, and recapture) the Hawaiian duck (Anas wyvilliana) in conjunction with research on the Island of Molokai in the State of Hawaii, for the purpose of enhancing its survival. This permit currently covers capture and banding of the Hawaiian coot (Fulica alai) and Hawaiian stilt (Himantopus mexicanus knudseni), for which a notice was originally published in the Federal Register on May 22, 2007 (72 FR 28709).

Public Review of Comments

Please refer to the permit number for the application when submitting comments.

We solicit public review and comment on this recovery permit application. Before including your address, phone number, e-mail address, or other personal identifying information in your comment, you should be aware that your entire comment—including your personal identifying information—may be made publicly available at any time. While you can ask us in your comment to withhold your personal identifying information from public review, we cannot guarantee that we will be able to do so.

Comments and materials received will be available for public inspection, by appointment, during normal business hours at the above address.

Dated: April 10, 2008.
David J. Wesley,
Acting Regional Director, Region 1, U.S. Fish and Wildlife Service.

[FR Doc. E8-10233 Filed 5-7-08; 8:45 am]

BILLING CODE 4310-55-P